DEPARTMENT OF COMMERCE

International Trade Administration

(A-570-806)

Silicon Metal From the People's Republic of China: Initiation of Antidumping Duty New Shipper Reviews

AGENCY: Import Administration, International Trade Administration, Department of Commerce.

SUMMARY: The Department of Commerce (“Department”) has received timely requests to conduct new shipper reviews of the antidumping duty order on silicon metal from the People's Republic of China (“PRC”). In accordance with section 751(a)(2)(B) of the Tariff Act of 1930, as amended (“the Act”) and 19 CFR 351.214(d), we are initiating reviews for Shanghai Jinneng International Trade Co., Ltd. (“Shanghai Jinneng”) and Jiangxi Gangyuan Silicon Industry Co., Ltd. (“Jiangxi Gangyuan”).

EFFECTIVE DATE: July 25, 2006.

FOR FURTHER INFORMATION CONTACT: P. Lee Smith or Scot T. Fullerton, AD/CVD Operations, Office 9, Import Administration, International Trade Administration, U.S. Department of Commerce, 14th Street and Constitution Avenue, NW, Washington, DC 20230; telephone: (202) 482-1655 or (202) 482-1386, respectively.

SUPPLEMENTARY INFORMATION:

Background

The Department received timely requests from Shanghai Jinneng and Jiangxi Gangyuan on June 23, 2006, pursuant to section 751(a)(2)(B) the Act, and in accordance with 19 CFR 351.214(c), for new shipper reviews of the antidumping duty order on silicon metal from the PRC.¹ See Antidumping Duty Order: Silicon Metal From the People's Republic of China, 56 FR 26649 (June 10, 1991).

¹ Both Shanghai Jinneng and Jiangxi Gangyuan revised claims of business proprietary information in their requests for a new shipper review in submissions filed on June 23, 2006. These revisions were filed in response to a request by the Department. See Letter from Christopher D. Riker, Program Manager, AD/CVD Operations, Office 9, Import Administration, dated June 20, 2006.

Pursuant to 19 CFR 351.214(b)(2)(i), 19 CFR 351.214(b)(2)(ii)(A), and 19 CFR 351.214(b)(2)(iii)(A), in their requests for review, Shanghai Jinneng and Jiangxi Gangyuan certified that they did not export the subject merchandise to the United States during the period of investigation (“POI”) and that since the initiation of the investigation they have never been affiliated with any company which exported subject merchandise to the United States during the POI. Furthermore, pursuant to 19 CFR 351.214(b)(2)(ii)(B) and 19 CFR 351.214(b)(2)(iii)(A), Datong Jinneng Industrial Silicon Co., Ltd. (“Datong Jinneng”), Shanghai Jinneng's producer, certified that it did not export the subject merchandise to the United States during the POI and that since the initiation of the investigation it has never been affiliated with any company which exported subject merchandise to the United States during the POI. Additionally, pursuant to 19 CFR 351.214(b)(2)(iii)(B), Shanghai Jinneng, Datong Jinneng, and Jiangxi Gangyuan further certified that their export activities are not controlled by the central government of the PRC.

In accordance with 19 CFR 351.214(b)(2)(iv), Shanghai Jinneng and Jiangxi Gangyuan each submitted documentation establishing the following: (1) the date on which it first shipped subject merchandise for export to the United States and the date on which the subject merchandise was first entered, or withdrawn from warehouse, for consumption; (2) the volume of its first shipment; and (3) the date of its first sale to an unaffiliated customer in the United States.

Initiation of Reviews

In accordance with section 751(a)(2)(B) of the Act, and 19 CFR 351.214(d)(1), and based on information on the record, we are initiating new shipper reviews for Shanghai Jinneng and Jiangxi Gangyuan. See Memoranda to the File through Christopher D. Riker, Program Manager, AD/CVD Operations, Office 9, Import Administration, from P. Lee Smith, Import Compliance Specialist, AD/CVD Operations, Office 9, Import Administration, regarding New Shipper Initiation Checklists, dated July 18, 2006. We intend to issue the preliminary results of these reviews not later than 180 days after the date on which the reviews were initiated, and the final results of these reviews within 90 days after the date on which the preliminary results are issued.

Pursuant to 19 CFR 351.214(g)(1)(i)(A), the period of review (“POR”) for a new shipper review, initiated in the month immediately following the anniversary month, will be the twelve-month period immediately preceding the anniversary month. Therefore, the POR for the new shipper reviews of Shanghai Jinneng and Jiangxi Gangyuan will be June 1, 2005, through May 31, 2006.

It is the Department's practice to date in cases involving non-market economies to require that a company seeking to establish eligibility for an antidumping duty rate separate from the country-wide rate provide evidence of de jure and de facto absence of government control over the company's export activities. Accordingly, we will issue questionnaires to Shanghai Jinneng and Jiangxi Gangyuan, including a separate rates section. The reviews will proceed if the responses provide sufficient indication that Shanghai Jinneng and Jiangxi Gangyuan are not subject to either de jure or de facto government control with respect to their exports of freshwater crawfish tail meat. However, if the exporter does not demonstrate the company's eligibility for a separate rate, then the company will be deemed not separate from the PRC-wide entity, which exported during the POI. An exporter unable to demonstrate the company's eligibility for a separate rate would hence not meet the requirements of CFR 351.214(b)(2)(iii) and its new shipper review will be rescinded. See, e.g., Brake Rotors From the People's Republic of China: Rescission of Second New Shipper Review and Final Results and Partial Rescission of First Antidumping Duty Administrative Review, 64 FR 61581 (November 12, 1999).

In accordance with section 751(a)(2)(B)(iii) of the Act and 19 CFR 351.214(e), we will instruct U.S. Customs and Border Protection to allow, at the option of the importer, the posting, until the completion of the review, of a single entry bond or security in lieu of a cash deposit for certain entries of the merchandise exported by either Shanghai Jinneng and Jiangxi Gangyuan. We will apply the bonding option under 19 CFR 351.107(b)(1)(i) only to entries from the producer/exporter combination for which these companies have requested a new shipper review, i.e., Shanghai Jinneng/Datong Jinneng and Jiangxi Gangyuan/Jiangxi Gangyuan.

Interested parties that need access to proprietary information in these new shipper reviews should submit applications for disclosure under administrative protective orders in accordance with 19 CFR 351.305 and 351.306.

This initiation and notice are issued and published in accordance with section 751(a) of the Act, 19 CFR 351.214(d) and 19 CFR 351.221(b)(1).

Dated: July 18, 2006.
Stephen J. Claeys,
Deputy Assistant Secretary for Import Administration.

[FR Doc. E6-11835 Filed 7-24-06; 8:45 am]

BILLING CODE 3510-DS-S